DEPARTMENT OF COMMERCE

National Oceanic and Atmospheric Administration

Agency Information Collection Activities; Submission to the Office of Management and Budget (OMB) for Review and Approval; Comment Request; Traffic Coordination System for Space (TraCSS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 28, 2025, during a 60-day comment period. This notice allows for an additional 30 days for public comments.

Agency: National Oceanic and Atmospheric Administration, Commerce.

Title: Traffic Coordination System for Space (TraCSS) Registration and Operation.

OMB Control Number: 0648-XXXX.

Form Number(s): None.

Type of Request: Regular submission [new information collection].

Number of Respondents: 250.

Average Hours per Response: Initial registration: 5 minutes; Satellite Owner/Operator Satellite Information and Attributes (aka Satellite File—Spacecraft Owners/Operators): 2 hours; Orbit Comprehensive Message (OEM) File (e.g., Spacecraft ephemeris with maneuver plan): 15 minutes.

Total Annual Burden Hours: 6,289.

Needs and Uses: This is a request for a new collection of information. The Office of Space Commerce (OSC) is developing the Traffic Coordination System for Space (TraCSS) to provide space situational awareness (SSA) data, information, and services that support global spaceflight safety, space sustainability, and international coordination. In order to provide these services, TraCSS will enable spacecraft operators and national governments to register for the system. This will require the provision of information by these users as part of the registration process. Spacecraft operators are also asked to provide relevant operational information on an ongoing basis to facilitate provision of safety services.

The purpose of this collection is to enable TraCSS users (spacecraft operators and national governments) to register and receive spaceflight safety services from the system. The registration information will include organizational contact information, a list of spacecrafts associated with that user, and additional attributes associated with that spacecraft. Spacecraft operators will also provide an operational point of contact. In addition to information provided as part of the registration process, spacecraft operators will provide additional information, such as ephemerides with covariance and maneuver plans, on an ongoing basis. The provision of this information enables TraCSS to provide spaceflight safety services to users.

Affected Public: Business or other for-profit organizations; Not-for-profit institutions; Federal government.

Frequency: Once at registration for most information (plus occasional updates if information changes), daily for spacecraft owner/operator ephemerides with maneuver plans.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary for Economic Affairs, Commerce Department.

[FR Doc. 2025-14046 Filed 7-24-25; 8:45 am]

BILLING CODE 3510-12-P